DEPARTMENT OF AGRICULTURE

Forest Service

Del Norte County Resource Advisory Committee

AGENCY: Forest Service, USDA.

ACTION: Notice of meeting; correction.

SUMMARY: The Forest Service in the Federal Register of March 7, 2014 concerning a notice of meeting for the Del Norte Resource Advisory Committee. The document contained an incorrect date and location.

FOR FURTHER INFORMATION CONTACT: LynnWright, RAC Coordinator, 707-441-3562.

Correction

In the Federal Register of March 7, 2014, in FR Doc. 2014-04979, on page 13037, correct the first sentence to read: “The Del Norte Resource Advisory Committee (RAC) will meet in Crescent City, California.” Correct the first sentence in “Date” section to read:

“The meetings will all start at 6:00 p.m. on the following dates:

• April 8, 2014

• April 24, 2014”

Dated: March 7, 2014.
Tyrone Kelley,
Forest Supervisor.

[FR Doc. 2014-05487 Filed 3-12-14; 8:45 am]

BILLING CODE 3410-11-P